DEPARTMENT OF COMMERCE

International Trade Administration

[A-570-001]

Potassium Permanganate From the People's Republic of China: Continuation of Antidumping Duty Order

AGENCY: Enforcement and Compliance, International Trade Administration, Department of Commerce.

SUMMARY: As a result of the determinations by the Department of Commerce (the “Department”) and the International Trade Commission (the “ITC”) that revocation of the antidumping duty order on potassium permanganate from the People's Republic of China (“PRC”) would likely lead to a continuation or recurrence of dumping and material injury to an industry in the United States, the Department is publishing a notice of continuation of the antidumping duty order.

DATES: Effective Date: March 18, 2016.

FOR FURTHER INFORMATION CONTACT: Omar Qureshi, AD/CVD Operations, Enforcement and Compliance, International Trade Administration, U.S. Department of Commerce, 14th Street and Constitution Avenue NW., Washington, DC 20230; telephone: (202) 482-5307.

SUPPLEMENTARY INFORMATION:

Background

On September 1, 2015, the Department published a notice of initiation of the sunset review of the antidumping duty order on potassium permanganate from the PRC, pursuant to section 751(c) of the Tariff Act of 1930, as amended (“the Act”).¹ As a result of its review, the Department determined that revocation of the antidumping duty order on potassium permanganate from the PRC would likely lead to a continuation or recurrence of dumping and, therefore, notified the ITC of the magnitude of the margins likely to prevail should the order be revoked.² On February 8, 2016, the ITC published notice of its determination, pursuant to section 751(c) of the Act, that revocation of the antidumping duty order on potassium permanganate from the PRC would likely lead to a continuation or recurrence of material injury to an industry in the United States within a reasonably foreseeable time.³

Scope of the Order

¹ See Initiation of Five-Year (“Sunset”) Review, 80 FR 52743 (September 1, 2015).

² See Potassium Permanganate from the People's Republic of China: Final Results of Expedited Fourth Sunset Review of the Antidumping Duty Order, 81 FR 741 (January 7, 2016) and accompanying Issues and Decision Memorandum.

³ See Potassium Permanganate from the People's Republic of China: Determination, 81 FR 6538 (February 8, 2016); see also Potassium Permanganate from the People's Republic of China: Investigation No. 731-TA-125, USITC Publication 4590 (February, 2016).

Imports covered by this order are shipments of potassium permanganate, an inorganic chemical produced in free-flowing, technical, and pharmaceutical grades. Potassium permanganate is currently classifiable under item 2841.61.00 of the Harmonized Tariff Schedule of the United States (“HTSUS”). Although the HTSUS item number is provided for convenience and customs purposes, the written description of the merchandise remains dispositive.

Continuation of the Order

As a result of the determinations by the Department and the ITC that revocation of the antidumping duty order would likely lead to a continuation or recurrence of dumping and material injury to an industry in the United States, pursuant to section 751(d)(2) of the Act, the Department hereby orders the continuation of the antidumping duty order on potassium permanganate from the PRC. U.S. Customs and Border Protection will continue to collect antidumping duty cash deposits at the rates in effect at the time of entry for all imports of subject merchandise. The effective date of the continuation of the order will be the date of publication in the Federal Register of this notice of continuation. Pursuant to section 751(c)(2) of the Act, the Department intends to initiate the next five-year review of the order not later than 30 days prior to the fifth anniversary of the effective date of continuation.

This five-year (“sunset”) review and this notice are in accordance with section 751(c) of the Act and published pursuant to section 777(i)(1) of the Act.

Dated: March 14, 2016.
Paul Piquado,
Assistant Secretary for Enforcement and Compliance.

[FR Doc. 2016-06172 Filed 3-17-16; 8:45 am]

BILLING CODE 3510-DS-P